DEPARTMENT OF TRANSPORTATION

Federal Motor Carrier Safety Administration

[Docket No. FMCSA-2000-8398]

Qualification of Drivers; Exemption Applications; Vision

AGENCY: Federal Motor Carrier Safety Administration (FMCSA), DOT.

ACTION: Notice of applications for exemption from the vision standard; request for comments.

SUMMARY: This notice announces the FMCSA's receipt of applications from 35 individuals for an exemption from the vision requirements in the Federal Motor Carrier Safety Regulations (FMCSRs). If we grant the request, the individual will qualify as a driver of commercial motor vehicles (CMVs) in interstate commerce without meeting the vision standard prescribed in 49 CFR 391.41(b)(10).

DATES: We must receive your comments on or before January 16, 2001.

ADDRESSES: Please mail or deliver comments to the U.S. Department of Transportation, Dockets Management Facility, Room PL-401, 400 Seventh Street, SW., Washington, DC 20590, or submit electronically at http://dmses.dot.gov/submit. You can look at and copy all the comments at the same address from 9 a.m. to 5 p.m., e.t., Monday through Friday, except Federal holidays. If you want to know that we received your comments, please include a self-addressed, stamped postcard or print the acknowledgment page that appears after submitting comments electronically.

FOR FURTHER INFORMATION CONTACT: For information about the vision exemptions in this notice, Ms. Sandra Zywokarte, Office of Bus and Truck Standards and Operations, (202) 366-2987; for information about legal issues related to this notice, Mr. Joe Solomey, Office of the Chief Counsel, (202) 366-0834, Federal Motor Carrier Safety Administration, 400 Seventh Street, SW., Washington, DC 20590. Office hours are from 7:45 a.m. to 4:15 p.m., e.t., Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

Background

Thirty-five individuals have requested an exemption from the vision requirement in 49 CFR 391.41(b)(10), which applies to drivers of CMVs in interstate commerce. Under 49 U.S.C. 31315 and 31136(e), the FMCSA may grant an exemption for a renewable 2-year period if it finds “such exemption would likely achieve a level of safety that is equivalent to, or greater than, the level that would be achieved absent such exemption.” Accordingly, the agency will evaluate the qualifications of each applicant to determine whether granting the exemptions will achieve the required level of safety.

Qualifications of Applicants

1. Carl W. Adams

Mr. Adams, 49, lost his right eye in 1984. His visual acuity in the left eye is 20/20 with correction. His ophthalmologist examined him in 2000, and certified, “In my opinion, Mr. Adams has sufficient vision to perform the driving tasks required to operate a commercial vehicle.” In his application, Mr. Adams reported that he has driven tractor-trailer combinations for 14 years, accumulating 1.6 million miles. He holds a Minnesota Class A CDL, and there are no accidents or convictions for moving violations in a CMV on his driving record for the last 3 years.

2. David F. Bardsley

Mr. Bardsley, 52, lost his right eye due to an injury in 1976. His best-corrected visual acuity in the left eye is 20/20. Following an examination in 1999, his ophthalmologist stated, “I hereby certify that in my professional opinion and reasonable degree of medical certainty, Mr. Bardsley's visual deficiency is stable and he is medically qualified to operate a commercial motor vehicle safely.” Mr. Bardsley submitted that he has driven a straight truck for 33 years and 825,000 miles. He holds a Class B CDL from Massachusetts, and during the last 3 years, he has had no accidents or convictions for moving violations in a CMV.

3. William E. Beckley

Mr. Beckley, 67, had an injury to his left eye in 1975 resulting in corneal scarring. His best-corrected visual acuity is 20/25 in the right eye and hand motions in the left eye. An ophthalmologist examined him in 2000 and stated, “I feel that Mr. Beckley has sufficient vision to perform the driving tasks required to operate a commercial vehicle.” According to Mr. Beckley's application, he has 51 years of experience driving tractor-trailers, totaling 4.4 million miles; and 6 years of experience driving straight trucks, totaling 270,000 miles. He holds a Maryland Class A CDL and has had no accidents or moving violations in a CMV for the past 3 years.

4. Joseph M. Blankenship

Since childhood, Mr. Blankenship, 37, has had amblyopia, which reduces his visual acuity to 20/200 in his right eye. The uncorrected vision in his left eye is 20/20. In 2000, an optometrist examined him and certified, “Although Mr. Blankenship does not meet the specific criteria of 20/40 monocular vision in each eye, I feel that with the demonstration of excellent visual fields and the presence of binocular depth perception that Mr. Blankenship has sufficient vision to safely operate a commercial vehicle.” Mr. Blankenship submitted he has operated tractor-trailer combination vehicles for 7 years, accumulating 676,000 miles. He holds a Class AM CDL from Alabama. During the last 3 years, according to his driving record, he has had no accidents and 2 convictions for speeding in a CMV. He exceeded the speed limit by 19 mph in one instance, and 14 mph in the other instance.

5. Willie Burnett

Mr. Burnett, 44, has amblyopia in his left eye. His best-corrected visual acuity is 20/20 in the right eye and 20/100 in the left eye. His optometrist examined him in 2000, and stated, “Mr. Burnett in my medical opinion has sufficient vision to perform the driving tasks required to operate a commercial vehicle.” Mr. Burnett submitted that he has driven 220,000 miles in straight trucks over 23 years. He holds a Class A CDL from Florida, and his driving record shows no accidents or convictions for moving violations in a CMV for the last 3 years.

6. Awilda S. Colon

Ms. Colon, 48, has a corneal scar in her left eye due to a childhood injury. Her best-corrected visual acuity is 20/20 in her right eye and 20/60 in her left eye. Following an examination in 2000, her optometrist certified, “After careful examination and talking with Ms. Colon, I feel she has adequate vision to operate a commercial vehicle.” Ms. Colon reported that she has driven buses for 6 years, accumulating 15,000 miles. She holds a Class B CDL from Tennessee. Her driving record for the last 3 years shows no accidents or convictions for moving violations in a CMV.

7. Robert P. Conrad

Mr. Conrad, 54, has amblyopia in his left eye. His visual acuity with correction is 20/20 in the right eye and 20/60 in the left. Mr. Conrad was examined in 1999, and his ophthalmologist stated, “I certify that in my medical opinion, he has sufficient vision to perform the driving tasks required to operate a commercial vehicle.” Mr. Conrad submitted that he has driven straight trucks and tractor-trailer combinations for 32 years, accumulating 64,000 miles in straight trucks, and 1.4 million miles in tractor-trailer combinations. He holds a Maryland Class AM CDL, and his driving record for the last 3 years contains no accidents and no convictions for moving violations in a CMV.

8. Jerald O. Edwards

Mr. Edwards, 52, has had optic nerve pallor in the left eye since birth. His visual acuity is 20/20 in the right eye and finger counting at 5 feet in the left eye. As a result of a 2000 examination, his optometrist affirmed, “With the previous information, I have sent to you, the tests indicate Mr. Edwards has sufficient vision to perform commercial vehicle driving tasks.” Mr. Edwards reported that he has driven straight trucks for 5 years and 50,000 miles, and tractor-trailer combination vehicles for 30 years and 1.2 million miles. He holds a Class A CDL from Idaho. His driving record for the last 3 years shows no accidents and one speeding conviction in a CMV. He exceeded the speed limit by 9 mph.

9. William W. Ferrell

Mr. Ferrell, 61, developed a macular scar in his right eye following surgery in January 1997. He also has some central vision loss related to macular degeneration. His visual acuity is 20/200 in the right eye and 20/25 corrected in the left. An ophthalmologist examined him in 2000 and stated, “In my medical opinion, Mr. Ferrell does indeed have sufficient vision to perform the driving tasks that would be required to operate a commercial vehicle.” Mr. Ferrell reported that he has driven straight trucks for 7 years for 400,000 miles, and tractor-trailer combinations 12 years for 1.2 million miles. He holds a Missouri Class A CDL and has had no accidents or convictions for moving violations in a CMV for the past 3 years.

10. Marion R. Fox, Jr.

Mr. Fox, 56, has a chorioretinal scar in his left eye, due to trauma at age 10. His corrected vision is 20/20+2 in the right eye and 20/60+2 in the left eye. He was examined in 2000, and his optometrist stated, “Mr. Fox has sufficient vision to operate a commercial vehicle.” Mr. Fox reported that he has 33 years and 3.3 million miles of experience driving tractor-trailer combinations. He holds an Indiana Class A CDL, and has had no CMV accidents or convictions for moving violations for the past 3 years.

11. Thomas E. Howard

Mr. Howard, 48, has had anterior uveitis scaring in the left eye since age 2. His vision is 20/20, unaided, in the right eye, and hand motion only, with correction, in the left eye. Following a 2000 examination, his optometrist stated, “I feel that Mr. Howard should be able to perform the driving tasks required for commercial driving.” Mr. Howard reported that he has driven tractor-trailer combination vehicles for 30 years, totaling 3.0 million miles. He holds an Indiana Class A CDL, and his official driving record shows no CMV accidents or moving violations in the last 3 years.

12. James L. Johnson

Mr. Johnson, 43, has refractive amblyopia in his left eye. His visual acuity uncorrected in the right eye is 20/20, and corrected in the left eye, 20/60. An optometrist examined Mr. Johnson in 2000 and affirmed, “This condition [refractive amblyopia] does not hinder in any way Mr. Johnson's ability to safely drive or operate commercial vehicles.” According to Mr. Johnson's application, he has driven 4.8 million miles in tractor-trailer combination vehicles over 20 years. He holds a Class AM CDL from Alabama. In the last 3 years he has had no accidents or convictions for moving violations in a CMV on his driving record.

13. Spencer E. Leonard

Mr. Leonard, 48, has amblyopia in his right eye. The visual acuity of his left eye is 20/20, with correction, and the visual acuity of his right eye is finger counting. The ophthalmologist who examined him in 1999 noted, “Vision and ocular condition stable and patient is able to operate a commercial vehicle as he has in the past.” According to his application, he has 24 years' and 1.9 million miles' experience operating tractor-trailer combinations, and 12 years' and 180,000 miles' experience operating straight trucks. He has an Ohio Class A CDL. There are no accidents and one conviction for a moving violation in a CMV on his driving record for the last 3 years. The ticket charged him with exceeding the speed limit by 11 mph.

14. John K. Love

Mr. Love, 67, has had a prosthetic left eye since 1950. His corrected visual acuity is 20/20− in the right eye. An optometrist examined him in 2000 and affirmed, “In my medical opinion, John Love has sufficient vision required to operate a commercial vehicle.” Mr. Love stated he has driven tractor-trailer combinations for 43 years, accumulating 2.1 million miles. He holds a Wyoming Class 1AMTX license. His official driving record for the last 3 years shows no accidents and no convictions for moving violations in a CMV.

15. Robert C. Lueders

Mr. Lueders, 44, suffered trauma to his left eye approximately 38 years ago, resulting in a retinal scar. Best-corrected acuities are 20/20 in the right eye and 20/70 in the left. As a result of an examination in 1999, his optometrist stated, “Based on Mr. Lueders” excellent driving record and his comprehensive eye exam, I feel Mr. Lueders has sufficient vision to perform the driving tasks required to operate a commercial vehicle.” According to Mr. Lueders' application, he has driven straight trucks for 8 years, accumulating 300,000 miles, and tractor-trailer combinations for 15 years, accumulating 1.5 million miles. He holds a Class A CDL from Wisconsin. In the last 3 years his driving record shows no accidents or convictions for moving violations in a CMV.

16. Thomas F. Marczewski

Mr. Marczewski, 34, has amblyopia in his left eye. His visual acuities are 20/20 in his right eye and 20/300, not correctable, in his left. Following a 2000 examination, his optometrist noted, “Mr. Marczewski has sufficient vision to perform driving tasks required to operate a commercial vehicle.” According to Mr. Marczewski, he has operated straight trucks for 6 years, accumulating 120,000 miles; and tractor-trailer combinations for 3 years, accumulating 114,000 miles. A holder of a Class ABCDM CDL from Wisconsin, he has no accidents or citations for moving violations in a CMV for the last 3 years.

17. Samson B. Margison

Mr. Margison, 48, has congenital amblyopia and esotropia of the left eye. His corrected visual acuity is 20/20+ in the right eye and 20/400 in the left. He was examined in 2000 and his optometrist stated, “In my opinion I see no reason Mr. Margison should not be able to drive commercially based on his visual status alone.” In his application, Mr. Margison reported that he has driven straight trucks for 7 years, accumulating 49,000 miles; and tractor-trailer combinations for 16 years, accumulating 1.6 million miles. He holds an Ohio Class A CDL, and has no accidents and one citation for speeding in a CMV on his driving record for the past 3 years. His speed was 12 mph over the limit.

18. Velmer L. McClelland

Mr. McClelland, 50, has light perception only in his left eye due to trauma as a child. His best-corrected vision in the right eye is 20/20. Following a 2000 examination, his optometrist noted, “I feel patient can safely operate a motor vehicle. (commercial).” In his application, Mr. McClelland reported that he has driven tractor-trailer combinations for 15 years, accumulating 1.1 million miles; and straight trucks for 5 years, accumulating 250,000 miles. He holds a Texas Class A CDL and has had no accidents or convictions for moving violations in a CMV for the past 3 years.

19. Duane A. McCord

Mr. McCord, 34, has been blind in his right eye since age 4 due to trauma. His best vision with correction is 20/20 in his left eye. Following an examination in 2000, his optometrist certified, “I feel since Duane has had the visual defect since almost birth he has adapted using other visual cues and can still operate a commercial vehicle.” Mr. McCord submitted that he has driven straight trucks for 200,000 miles in 5 years. He holds an Illinois Class B CDL, and his official driving record for the last 3 years shows no accidents and no convictions for moving violations in a CMV.

20. Gene L. Miller

Mr. Miller, 60, has a mature cataract and exotropia due to a childhood injury to his left eye. His best-corrected visual acuity is 20/20 in the right eye and 20/200 in the left eye. Following an examination in 1999, his optometrist stated, “In my opinion Mr. Miller has sufficient vision to operate a commercial vehicle.” Mr. Miller submitted that he has driven straight trucks for 2 years and 100,000 miles; tractor-trailer combination vehicles for 8 years and 800,000 miles; and buses for 2 years and 65,000 miles. He holds a Class A CDL from the State of Washington, and his driving record shows no accidents or convictions for moving violations in a CMV during the last 3 years.

21. John E. Musick

Mr. Musick, 35, had a traumatic injury to the left eye in 1979, resulting in retinal detachment and diffuse retinal scarring, with an acuity of hand motion. His visual acuity is 20/20 in the right eye, without correction. Following a 2000 examination, his ophthalmologist stated, “Since he has been operating a commercial vehicle in the past and has had many years to adjust to his visual deficit, I would think he can continue.” Mr. Musick reported that he has driven straight trucks for 5 years, totaling 50,000 miles, and tractor-trailer combination vehicles for 3 years, totaling 105,000 miles. He holds an Arizona Class A CDL, and his official driving record shows no CMV accidents or convictions for moving violations during the last 3 years.

22. Bobby G. Pool, Sr.

Mr. Pool, 45, has amblyopia in the left eye. His vision is 20/20 in the right eye and 20/200 in the left eye with best correction. His ophthalmologist examined him in 2000, and certified, “I have no reason to believe that this patient is any less able to operate a commercial vehicle now than in the last 30 years and I feel his visual requirements should meet your guidelines.” Mr. Pool reported that he has driven tractor-trailer combinations for 20 years, accumulating 1.5 million miles. He holds a Texas Class AM CDL. In the last 3 years, he has had one accident and no convictions for moving violations in a CMV. Mr. Pool was not charged in the accident, and another driver was held to be at fault for failing to control speed in this 3-vehicle accident.

23. Robert Radcliff, Jr.

Mr. Radcliff, 39, has a central macular scar and a corneal scar in his left eye due to a childhood injury. His uncorrected visual acuity is 20/20 in the right eye and 20/100 in the left eye, but refraction yielded no improvement. His optometrist examined him in 2000, and stated, “In my opinion Mr. Radcliff has sufficient vision to drive a commercial vehicle.” Mr. Radcliff submitted that he has driven straight trucks for 11 years and 205,000 miles. He holds a Class D license from Alabama. His driving record for the last 3 years shows that he had no accidents and one conviction for speeding in a CMV. The ticket stated that he was driving 16 mph over the limit.

24. Randolph M. Riffey

Mr. Riffey, 49, has amblyopia in his right eye. He was examined in 2000, and his optometrist found his visual acuity to be 20/20, corrected, in the left eye, and hand motion at 2 feet in the right eye. His optometrist stated, “In conclusion, Mr. Riffey has a congenital condition that is stable and in my medical opinion has sufficient vision to perform the driving tasks required to operate a commercial vehicle.” Mr. Riffey reported that he has driven straight trucks for 5 years and 25,000 miles, and tractor-trailer combination vehicles for 15 years and 1.5 million miles. He holds a Virginia Class A CDL, and has had no convictions for moving violations or accidents in a CMV during the last 3 years.

25. Billy G. Saunders

Mr. Saunders, 63, has scarring in his right eye, due to an injury at age 4. His visual acuity is 20/20, corrected, in his left eye, and hand motion in his right eye. Following a 2000 examination, his optometrist stated, “In my opinion Mr. Saunders has sufficient vision to perform the driving tasks required to operate a commercial vehicle.” Mr. Saunders stated that he has operated tractor-trailer combination vehicles for 40 years, and a total of 4.0 million miles. He holds a New Mexico Class A CDL, and his official driving record shows no accidents or convictions for a moving violation in a CMV over the last 3 years.

26. George D. Schell

Mr. Schell, 48, has amblyopia in his left eye. His visual acuities are 20/20, uncorrected, in the right eye, and 20/200, not correctable, in the left eye. An optometrist examined him in 2000 and stated, “In my opinion, your vision seems to be stable and you have sufficient vision in the right eye to be able to perform the driving tasks required to operate a commercial vehicle.” Mr. Schell indicated that he has 12 years of experience driving tractor-trailer combinations, with 900,000 miles driven, and 2 years of experience driving straight trucks, with 24,000 miles driven. He holds an Illinois Class A CDL, and has had no accidents or convictions for moving violations in a CMV during the past 3 years.

27. Gerald L. Smith

Mr. Smith, 44, has amblyopia in his right eye. His visual acuity is 20/20 best-corrected in the left eye and 20/200 in the right eye. Following a 1999 examination, his optometrist stated, “Mr. Smith has sufficient vision to operate a commercial vehicle.” Mr. Smith reports that he has operated tractor-trailer combinations for 4 years, accumulating 400,000 miles. He holds a California Class AM1 CDL. He has no accidents and one conviction for “Driver Failure to Obey All Trucks Stop at Scales” in a CMV on his driving record for the last 3 years.

28. Scottie Stewart

Mr. Stewart, 46, has finger counting only in the right eye due to trauma at about the age of 4. His visual acuity is 20/20 in the left eye. His ophthalmologist examined him in 2000 and stated, “Considering the fact that this patient has been driving commercial vehicles for many, many years without a problem, it is my opinion that his vision is sufficient to continue to do the same task.” In his application, Mr. Stewart reported that he has driven tractor-trailer combination vehicles for 20 years, totaling 1.1 million miles; and straight trucks for 2 years totaling 570,000 miles. He holds a Mississippi Class A CDL, and his driving record for the last 3 years shows no accidents or convictions for moving violations in a CMV.

29. Clarence L. Swann, Jr.

Mr. Swann, 51, suffered an injury in his right eye in 1962, resulting in a best-corrected visual acuity of 20/200 in that eye. The uncorrected vision in his left eye is 20/20. The ophthalmologist who examined him in 2000 stated, “I feel he has sufficient vision to perform the driving tasks required to operate a commercial vehicle.” Mr. Swann submitted that he has 21 years' experience driving tractor-trailer combinations for a total of 840,000 miles; and 5 years' experience driving straight trucks for a total of 150,000 miles. He holds a Class AM CDL from Alabama, and for the last 3 years he has no accidents or convictions for violations in a CMV on his driving record.

30. Robert Tatum

Mr. Tatum, 52, lost his right eye in an accident 20 years ago. An optometrist examined him in 1999, and certified, “Mr. Tatum has 20/20 vision in his left eye and has been successfully operating a commercial vehicle for approximately 20 years. Therefore in my medical opinion, Mr. Tatum has sufficient vision to perform these tasks.” Mr. Tatum stated that he has operated tractor-trailer combinations for 18 years, accumulating 1.6 million miles. He holds a Class A CDL from Illinois, and his driving record for the last 3 years shows that he had no accidents and one conviction for speeding in a CMV for the last 3 years. He exceeded the speed limit by 10 mph.

31. Thaddeus E. Temoney

Mr. Temoney, 50, has a macular scar in his right eye due to an injury over 25 years ago. His corrected visual acuity is 20/20 in his left eye and 20/70 in his right eye. An ophthalmologist examined him in 2000, and stated, “I certify it is my medical opinion that Mr. Temoney has sufficient vision to perform the driving tasks required to operate a commercial vehicle.” In his application, Mr. Temoney reported that he has driven straight trucks for 9 years, accumulating 304,000 miles. He holds a Maryland Class B CDL, and his official driving record for the last 3 years shows no accidents or moving violations in a CMV.

32. Roberto R. Turpaud

Mr. Turpaud, 38, has a cataract in his left eye most likely caused by trauma sustained in 1976. He is able to see 20/20 with his right eye and 20/60 with his left eye with correction. His ophthalmologist examined him in 1999, and stated, “In my opinion, he is qualified based on his vision to drive a commercial vehicle.” Mr. Turpaud reported that he has driven straight trucks for 4 years and 60,000 miles. He holds a Washington Operator's License currently, but at the time of his application he held a Class D license from Massachusetts. He has no accidents and two convictions for moving violations in a CMV on his driving record for the last 3 years. The convictions were for “Failure to Stop” and “Failure to Obey Stop Sign.”

33. Roy B. Waggoner

Mr. Waggoner, 63, has refractive amblyopia due to anisometropic refractive error in his left eye as a result of a childhood injury. The best-corrected visual acuity is 20/20 in the right eye and 20/100 in the left. As the result of an examination in 2000, his ophthalmologist concluded, “It is my understanding that Mr. Waggoner has operated a commercial vehicle for many years as his primary occupation. * * * Given his binocular visual acuity of 20/20 in his glasses and his full visual fields, it is my opinion that his overall visual function is quite good. * * * My opinion, given these facts, is that Mr. Waggoner does have sufficient vision to operate a commercial vehicle.” Mr. Waggoner reported that he has 41 years and 4.9 million miles of experience operating tractor-trailers. He holds a Class A CDL from Texas, and there are no accidents or convictions for moving violations in a CMV on his driving record for the last 3 years.

34. Harry C. Weber

Mr. Weber, 65, has amblyopia in his left eye. His visual acuity is 20/20 in the right eye, and 20/100 in the left eye. His optometrist examined him in 2000, and stated, “Mr. Weber has sufficient vision to perform the driving tasks required to operate his commercial vehicle as he performs his duties, with no record of accidents or tickets.” Mr. Weber reported that he has driven straight trucks for 45 years, accumulating 810,000 miles. He holds a Class C license from Maryland currently, but held a Class B CDL at the time of application. He has no accidents or convictions for moving violations in a CMV on his driving record for the past three years.

35. Yu Weng

Mr. Weng, 51, has amblyopia of the left eye. His best-corrected visual acuity is 20/25 in the right eye and 20/50 in the left eye. In 2000 his ophthalmologist examined him and affirmed, “It is my opinion that Mr. Weng has sufficient vision to perform the driving tasks required to operate a commercial vehicle without problem.” Mr. Weng submitted that he has 16 years' experience driving tractor-trailer combinations over 2.3 million miles. He holds a Class A CDL from New Jersey. His driving record for the last 3 years has no accidents and one conviction for “Failure to [Use Chains] When Required” in a CMV.

Request for Comments

In accordance with 49 U.S.C. 31315 and 31136(e), the FMCSA is requesting public comment from all interested persons on the exemption petitions and the matters discussed in this notice. We will consider all comments that we receive before the close of business on the closing date indicated in the “Dates” section. We will continue to place comments that we receive after the closing date in the docket, and we will consider them to the extent practicable, but the FMCSA may publish in the Federal Register a notice of final determination at any time after the close of the comment period.

Authority: 49 U.S.C. 322, 31136 and 31315; 49 CFR 1.73.

Issued on: December 8, 2000.
Brian M. McLaughlin,
Acting Assistant Administrator.

[FR Doc. 00-31921 Filed 12-13-00; 8:45 am]

BILLING CODE 4910-EX-P